NATIONAL FOUNDATION FOR THE ARTS AND THE HUMANITIES

Institute of Museum and Library Services

Notice of Proposed Information Collection Request: Evaluation of the Reopening Archives, Libraries, and Museums (REALM) Project

AGENCY: Institute of Museum and Library Services, National Foundation for the Arts and the Humanities.

ACTION: Notice, request for comments, collection of information.

SUMMARY: The Institute of Museum and Library Services (IMLS), as part of its continuing effort to reduce paperwork and respondent burden, conducts a pre-clearance consultation program to provide the general public and federal agencies with an opportunity to comment on proposed and/or continuing collections of information in accordance with the Paperwork Reduction Act. This pre-clearance consultation program helps to ensure that requested data can be provided in the desired format, reporting burden (time and financial resources) is minimized, collection instruments are clearly understood, and the impact of collection requirements on respondents can be properly assessed. The purpose of this notice is to solicit comments concerning a plan to conduct a research study entitled “Evaluation of the Reopening Archives, Libraries, and Museums (REALM) Project”. A copy of the proposed information collection request can be obtained by contacting the individual listed below in the ADDRESSES section of this notice.

DATES: Written comments must be submitted to the office listed in the addressee section below on or before December 11, 2020.

ADDRESSES: Send comments to Connie Bodner, Ph.D., Director, Office of Grants Policy and Management, Institute of Museum and Library Services, 955 L'Enfant Plaza North, SW, Suite 4000, Washington, DC 20024-2135. Dr. Bodner can be reached by telephone at 202-653-4636, by email at cbodner@imls.gov, or by teletype (TTY/TDD) for persons with hearing difficulty at 202-653-4614.

FOR FURTHER INFORMATION CONTACT: Marvin Carr, Ph.D., Senior Advisor, Office of Digital and Information Strategy, Institute of Museum and Library Services, 955 L'Enfant Plaza North, SW, Suite 4000, Washington, DC 20024-2135. Dr. Carr can be reached by telephone at 202-653-4752, by email at mcarr@imls.gov, or by teletype (TTY/TDD) for persons with hearing difficulty at 202-653-4614.

SUPPLEMENTARY INFORMATION: IMLS is particularly interested in comments that help the agency to:

• Evaluate whether the proposed collection of information is necessary for the proper performance of the functions of the agency, including whether the information will have practical utility;

• Evaluate the accuracy of the agency's estimate of the burden of the proposed collection of information including the validity of the methodology and assumptions used;

• Enhance the quality, utility, and clarity of the information to be collected; and

• Minimize the burden of the collection of information on those who are to respond, including through the use of appropriate automated electronic, mechanical, or other technological collection techniques, or other forms of information technology, e.g., permitting electronic submissions of responses.

I. Background

The Institute of Museum and Library Services is the primary source of federal support for the nation's libraries and museums. We advance, support, and empower America's museums, libraries, and related organizations through grant making, research, and policy development. Our vision is a nation where museums and libraries work together to transform the lives of individuals and communities. To learn more, visit www.imls.gov.

II. Current Actions

The Institute of Museum and Library Services (IMLS) is proposing an evaluation of the Reopening Archives, Libraries, and Museums (REALM) Project. The REALM Project convenes individuals from Institute of Museum and Library Services (IMLS), OCLC Inc. (OCLC), Battelle, and several key actors in the libraries, archives, and museums (LAM) field to bring their expertise and on-the-ground experience together to develop science-based information about how materials can be handled to mitigate COVID-19 exposure to staff and visitors of LAM institutions as COVID-19 restrictions begin lifting across the country. This project extends the guidance available from the Centers for Disease Control and Prevention (CDC) by providing information that is specifically relevant to LAM institutions.

Given that LAM institutions work with physical materials that are often circulated among the public, LAM institutions have unique concerns about how they can optimize their operations while minimizing the potential for spreading the Coronavirus. This evaluation will be focused on understanding the extent to which the professionals from LAM institutions have found that the REALM Project's research test results and toolkit resources have met their needs. Data will be collected through a survey of organizations that have used the test results and toolkit developed by the REALM project.

Agency: Institute of Museum and Library Services.

Title: Evaluation of the Reopening Archives, Libraries, and Museums Project.

OMB Number: 3137-NEW.

Agency Number: 3137.

Respondents/Affected Public: Staff from library, archive, and museum sectors.

Total Estimated Number of Respondents: TBD.

Frequency of Response: Once.

Average Minutes per Response: TBD.

Total Estimated Number of Annual Burden Hours: TBD.

Total Annualized Capital/Startup Costs: n/a.

Cost Burden: TBD.

Public Comments Invited: Comments submitted in response to this notice will be summarized and/or included in the request for OMB's clearance of this information collection.

Dated: October 13, 2020.
Kim Miller,
Senior Grants Management Specialist, Institute of Museum and Library Services.

[FR Doc. 2020-22957 Filed 10-15-20; 8:45 am]

BILLING CODE 7036-01-P